DEPARTMENT OF AGRICULTURE

Forest Service

Pike & San Isabel Resource Advisory Committee

AGENCY: Forest Service, USDA.

ACTION: Notice of meeting.

SUMMARY: The Pike & San Isabel Resource Advisory Committee will meet in Pueblo, Colorado. The committee is meeting as authorized under the Secure Rural Schools and Community Self-Determination Act (Pub. L. 110-343) and in compliance with the Federal Advisory Committee Act. The purpose of the conference call is for project coordination and understanding.

DATES: The meeting will be held on July 6, 2011, and will begin at 9 a.m.

ADDRESSES: The conference call will be held at the Supervisor's Office of the Pike & San Isabel National Forests, Cimarron and Comanche National Grasslands (PSICC) at 2840 Kachina Dr., Pueblo, Colorado. Written comments should be sent to Barbara Timock, PSICC, 2840 Kachina Dr., Pueblo, CO 81008. Comments may also be sent via e-mail to btimock@fs.fed.us, or via facsimile to 719-553-1416.

All comments, including names and addresses when provided, are placed in the record and are available for public inspection and copying. The public may inspect comments received at PSICC, 2840 Kachina Dr., Pueblo, CO 81008. Visitors are encouraged to call ahead to 719-553-1415 to facilitate entry into the building.

FOR FURTHER INFORMATION CONTACT: Barbara Timock, RAC Coordinator, USDA, Pike & San Isabel National Forests, 2840 Kachina Dr., Pueblo, CO 81008; (719) 553-1415; e-mail btimock@fs.fed.us.

Individuals who use telecommunication devices for the deaf (TDD) may call the Federal Information Relay Service (FIRS) at 1-800-877-8339 between 8 a.m. and 8 p.m., Eastern Standard Time, Monday through Friday.

SUPPLEMENTARY INFORMATION: To understand project proposals and coordination efforts, the PSI-RAC will convene a conference call. No decisions will be made during this call and the RAC will report out at the next meeting. The July 6 conference call is open to the public. The following business will be conducted: (1) Review project implementation (2) Discuss RAC member liaison efforts, (3) Public Comment. Persons who wish to bring related matters to the attention of the Committee may file written statements with the Committee staff before or after the meeting. Public input sessions will be provided and individuals who made written requests by July 5, 2011 will have the opportunity to address the Committee at those sessions.

Dated: May 19, 2011.
John F. Peterson,
Designated Federal Official.

[FR Doc. 2011-13230 Filed 5-26-11; 8:45 am]

BILLING CODE 3410-11-P